DEPARTMENT OF ENERGY

Federal Energy Regulatory Commission

[Docket No. RP00-152-003]

Northern Natural Gas Company; Notice of Compliance Filing

March 4, 2004.

Take notice that on January 7, 2004, Northern Natural Gas Company (Northern), tendered for filing to become part of its FERC Gas Tariff, Fifth Revised Volume No. 1, the following tariff sheet:

Seventh Revised Sheet No. 303

Northern states that the revised tariff sheet is being filed to comply with the Commission's December 18, 2003, Order on Remand in this docket approving Northern's filing to include indexed-based rates that are capped by Northern's maximum tariff rates, as a permissible type of discounted rate.

Northern further states that copies of the filing have been mailed to each of its customers and interested State Commissions.

Any person desiring to protest said filing should file a protest with the Federal Energy Regulatory Commission, 888 First Street, NE., Washington, DC 20426, in accordance with section 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: March 12, 2004.

Magalie R. Salas,
Secretary.

[FR Doc. E4-515 Filed 3-10-04; 8:45 am]

BILLING CODE 6717-01-P